ENVIRONMENTAL PROTECTION AGENCY

[FRL-7556-9]

Science Advisory Board Staff Office Advisory Council on Clean Air Compliance Analysis; Special Council Panel for the Review of the Third 812 Analysis; Notification of Two Upcoming Public Teleconferences

AGENCY: Environmental Protection Agency (EPA).

ACTION: Notice.

SUMMARY: The EPA Science Advisory Board Staff Office is announcing two public teleconference meetings of the Advisory Council on Clean Air Compliance Analysis Special Council Panel for the Review of the Third 812 Analysis (Panel).

DATES: September 23, 2003. A public teleconference meeting for the Council Panel will be held from 12 p.m. on September 23, 2003 to 1:30 p.m.

September 24, 2003. A public teleconference meeting for the Council Panel will be held from 12 p.m. on September 23, 2003 to 1:30 p.m.

ADDRESSES: Participation in the teleconference meeting will be by teleconference only.

FOR FURTHER INFORMATION CONTACT: Members of the public who wish to obtain the call-in number and access code to participate in the teleconference meeting may contact Ms. Sandra Friedman, EPA Science Advisory Board Staff, at telephone/voice mail: (202) 564-2526; or via e-mail at: friedman.sandra@epa.gov, or Ms. Delores Darden, EPA Science Advisory Board Staff at telephone/voice mail: (202) 564-2282; or via e-mail at darden.delores@epa.gov. Any member of the public wishing further information regarding the Council Special Panel may contact Dr. Angela Nugent, Designated Federal Officer (DFO), U.S. EPA Science Advisory Board (1400A), 1200 Pennsylvania Avenue, NW., Washington, DC 20460; by telephone/voice mail at (202) 564-4562; or via e-mail at nugent.angela@epa.gov. General information about the SAB can be found in the SAB Web site at http://www.epa.gov/sab.

SUPPLEMENTARY INFORMATION:

Background

Pursuant to the Federal Advisory Committee Act, Public Law 92-463, Notice is given that the Council Special Panel will hold two public teleconference meetings, as described above, to advise the Agency on its plan to develop the third in a series of statutorily mandated comprehensive analyses of the total costs and benefits of programs implemented pursuant to the Clean Air Act.

Background on the Council Special Panel and this advisory project was provided in a Federal Register notice published on February 14, 2003 (68 FR 7531-7534).

The Council Special Panel will be providing advice on the review document, “Benefits and Costs of the Clean Air Act 1990-2020; Revised Analytical Plan for EPA's Second Prospective Analysis' currently found at the following website, maintained by EPA's Office of Air and Radiation at: http://www.epa.gov/oar/sect812/ under the link “Study Blueprint and Charge Questions Electronic Copy.” This link provides electronic access to the Revised Analytical Plan, the “change pages” given to the Council in July 2003, and the detailed review charge questions.

Procedures for Providing Public Comment. It is the policy of the EPA Science Advisory Board (SAB) Staff Office to accept written public comments of any length, and to accommodate oral public comments whenever possible. The EPA SAB Staff Office expects that public statements presented at its meetings will not be repetitive of previously submitted oral or written statements.

Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) at least one week prior to the meeting in order to be placed on the public speaker list for the meeting. Speakers should bring at least 35 copies of their comments and presentation slides for distribution to the participants and public at the meeting.

Written Comments: Although written comments are accepted until the date of the meeting (unless otherwise stated), written comments should be received in the SAB Staff Office at least one week prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access these meetings, should contact Dr. Nugent at least five business days prior to the meeting so that appropriate arrangements can be made.

Dated: September 5, 2003.
A. Robert Flaak,
Acting Deputy Director for Management, EPA Science Advisory Board Staff Office.

[FR Doc. 03-23052 Filed 9-8-03; 8:45 am]

BILLING CODE 6560-50-P